ENVIRONMENTAL PROTECTION AGENCY

[FRL-6959-8]

Environmental Laboratory Advisory Board (ELAB), Nominees, Meeting Date, and Agenda

AGENCY: Environmental Protection Agency (EPA).

ACTION: Notice; solicitation of nominees for membership and notice of open meeting.

SUMMARY: The EPA is soliciting nominees to serve on the ELAB. Nominees are being sought to fill vacancies in the following categories: environmental engineering associations or firms, Indian nations, third party assessors, commercial laboratories, purchasers of environmental laboratory services, public interest groups and others associated with the environmental monitoring community. Terms of service will commence on July 29, 2001 and terminate on July 29, 2003. Application forms must be submitted to provide information on experience, abilities, stakeholder interest, organizational description, and references. A copy of the application form can be obtained on the Internet (see address below).

The Agency will convene an open teleconference meeting of ELAB on April 24, 2001, from 2:00 p.m. to 4:00 p.m. EST to solicit input from the public on issues related to the NELAC standards and the NELAC environmental laboratory accreditation program. The call in number for the meeting is 202-260-1015, access code 9195#. For those wishing to participate in person, the meeting will be open to the public at the EPA Office of Research and Development Laboratory in Las Vegas, NV. Directions can be obtained by calling 202-798-2232.

The agenda will include discussions of issues related to laboratory accreditation raised to the Board by the Public as well as a review of outstanding recommendations and activities from earlier Board meetings. Comments on the NELAC standards and laboratory accreditation program will be solicited. The Internet site address for the NELAC standards and the above mentioned ELAB nominee application is: http://ttnwww.rtpnc.epa.gov/html/nelac/nelac.htm#NL02.)

The public is encouraged to attend. Time will be allotted for public comment. Written comments are encouraged and should be directed to Stephen Billets; USEPA; PO Box 93478, Las Vegas, NV 89193. For additional information, please contact Dr. Billets at (702) 798-2232, fax (702) 798-2261, or E-mail: billets.stephen@epa.gov.

Henry L. Longest II,
Acting Assistant Administrator for Research and Development.

[FR Doc. 01-7636 Filed 3-27-01; 8:45 am]

BILLING CODE 6560-50-P